TENNESSEE VALLEY AUTHORITY

Environmental Impact Statement for Shawnee Fossil Plant Coal Combustion Residual Management

AGENCY: Tennessee Valley Authority.

ACTION: Notice of intent.

SUMMARY: The Tennessee Valley Authority (TVA) intends to prepare an environmental impact statement (EIS) to address the potential environmental effects associated with ceasing operations at the special waste landfill and Ash Pond 2 and constructing, operating, and maintaining a new dry coal combustion residual (CCR) landfill at the Shawnee Fossil Plant (SHF) located near Paducah, Kentucky in McCracken County. The purpose of the proposed project is to foster TVA's compliance with present and future regulatory requirements related to CCR production and management, including the requirements of EPA's CCR Rule and Effluent Limitations Guidelines Rule.

In the environmental review, TVA will evaluate the potential environmental impacts of closure of the special waste landfill and Ash Pond 2 as well as the construction, operation, and maintenance of an onsite dry CCR landfill or disposal of CCR in an existing offsite permitted landfill. TVA will develop and evaluate various alternatives, including the No Action Alternative, in the EIS. Public comments are invited concerning both the scope of the review and environmental issues that should be addressed.

DATES: To ensure consideration, comments on the scope and environmental issues must be postmarked, emailed or submitted online no later than December 1, 2016.

ADDRESSES: Written comments should be sent to Ashley Pilakowski, NEPA Compliance Specialist, 400 West Summit Hill Dr., WT 11D, Knoxville, TN 37902-1499. Comments may also be submitted online at: www.tva.gov/nepa.

FOR FURTHER INFORMATION CONTACT: Ashley Pilakowski, 865-632-2256.

SUPPLEMENTARY INFORMATION: This notice of intent is provided in accordance with the Council on Environmental Quality's regulations (40 CFR parts 1500-1508) and TVA's procedures implementing the National Environmental Policy Act (NEPA).

TVA Power System and CCR Management

TVA is a corporate agency of the United States that provides electricity for business customers and local power distributors serving more than 9 million people in parts of seven southeastern states. TVA receives no taxpayer funding, deriving virtually all of its revenues from sales of electricity. In addition to operating and investing its revenues in its electric system, TVA provides flood control, navigation and land management for the Tennessee River system and assists local power companies and state and local governments with economic development and job creation.

Historically, TVA has managed its CCRs in wet impoundments or dry landfills. Currently, SHF consumes an average of 3,880,165 tons of coal per year, generates approximately 8 billion kilowatt-hours of electricity a year (enough to supply 540,000 homes), and produces approximately 256,000 tons of CCR a year which are managed in an existing special waste landfill and a pond (Ash Pond 2).

In July 2009, the TVA Board of Directors passed a resolution for staff to review TVA practices for storing CCRs at its generating facilities, including SHF, which resulted in a recommendation to convert the wet ash management system at SHF to a dry storage system. On April 17, 2015, the U.S. Environmental Protection Agency (EPA) published the final Disposal of CCRs from Electric Utilities rule.

In June of 2016, TVA issued a Final Programmatic Environmental Impact Statement (PEIS) that analyzed methods for closing impoundments that hold CCR materials at TVA fossil plants and identified specific screening and evaluation factors to help frame its evaluation of closures at additional facilities. A Record of Decision was released in July of 2016 that would allow future environmental reviews of CCR impoundment closures to tier from the PEIS.

This EIS is intended to tier from the 2016 PEIS to evaluate the closure alternatives for the existing CCR Ash Pond 2 impoundment and additionally analyze the impacts of the closure of the existing special waste landfill, and construction, operation, and maintenance of a new on-site special waste landfill to accommodate future dry CCR disposal actions. This project supports TVA's goal to eliminate all wet CCR storage at SHF.

Alternatives

In addition to a No Action Alternative, this EIS will address alternatives that have reasonable prospects of providing a solution to the management and disposal of dry CCRs generated at SHF. TVA has determined that either the construction of a new CCR storage area or hauling CCR to an existing permitted landfill are the most reasonable alternatives to address the need for additional dry CCR disposal. TVA will consider closure alternatives for Ash Pond 2 in accordance with and consistent with TVA's PEIS and EPA's CCR Rule. TVA will also consider closure alternatives for the existing special waste landfill in accordance with EPA's CCR Rule.

No decision has been made about CCR management at SHF beyond the current operations and available onsite capacity. TVA is preparing this EIS to inform decision makers, other agencies and the public about the potential for environmental impacts associated with the decision on how to manage CCR generated at SHF.

Proposed Issues To Be Considered

This EIS will contain descriptions of the existing environmental and socioeconomic resources within the area that could be affected by the closure of the special waste landfill and Ash Pond 2 and by the construction, operation and maintenance of a new dry CCR landfill or disposal of CCR at an offsite landfill. Evaluation of potential environmental impacts to these resources will include, but not be limited to, the potential impacts on water quality, aquatic and terrestrial ecology, threatened and endangered species, wetlands, land use, historic and archaeological resources, solid and hazardous waste, safety, socioeconomic resources and environmental justice. The need and purpose of the project will be described. The range of issues to be addressed in the environmental review will be determined, in part, from scoping comments. The preliminary identification of reasonable alternatives and environmental issues in this notice is not meant to be exhaustive or final.

Public and Agency Participation

TVA is interested in an open process and wants to hear from the community, interested agencies and special interest groups about the scope of issues they would like to see addressed in this EIS.

The public is invited to submit comments on the scope of this EIS no later than the date identified in the “Dates” section of this notice. Federal, state and local agencies such as the U.S. Army Corps of Engineers, U.S. Fish and Wildlife Service, Kentucky Department of Environmental Protection, and the Kentucky State Historic Preservation Officer also are invited to provide comments. After consideration of scoping comments, TVA will post a summary of them and identify the issues and alternatives to be addressed in the EIS and the study's schedule.

The Draft EIS will be made available for public comment. In making its final decision, TVA will consider the analyses in this EIS and substantive comments that it receives. A final decision on proceeding with pond closure, existing landfill closure, and construction, operation, and maintenance of a new landfill will depend on a number of factors. These include requirements of the CCR Rule, the results of the EIS, engineering and risk evaluations, and financial considerations.

TVA anticipates holding a community meeting near the plant after releasing the Draft EIS. Meeting details will be posted on TVA's Web site. TVA expects to release the Draft EIS in summer of 2017.

M. Susan Smelley,
Director, Environmental Permitting and Compliance.

[FR Doc. 2016-26272 Filed 10-31-16; 8:45 am]

BILLING CODE P